DEPARTMENT OF HEALTH AND HUMAN SERVICES

Centers for Medicare & Medicaid Services

[Document Identifiers: CMS-10069]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), Federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by March 11, 2025.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: __, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS 10069 Rural Community Hospital Demonstration Program Application

Under the PRA (44 U.S.C. 3501-3520), Federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires Federal agencies to publish a 60-day notice in the Federal Register concerning each proposed collection of information, including each proposed extension or reinstatement of an existing collection of information, before submitting the collection to OMB for approval. To comply with this requirement, CMS is publishing this notice.

Information Collections

1. Type of Information Collection Request: Reinstatement of a previously approved collection; Title of Information Collection: Rural Community Hospital Demonstration Program Application; Use: CMS is requesting the information collection request previously approved under OMB control number 0938-0880, the Medicare Waiver Demonstration/Model Application, be reinstated. The approval lapsed due to an administrative oversight.

The Centers for Medicare & Medicaid Services (CMS) has operated the statutory Rural Community Hospital (RCH) Demonstration since 2004. The authorizing statute instructed CMS to test cost-based payment for Medicare inpatient services for rural hospitals with fewer than 51 beds that are not eligible to be Critical Access Hospitals (CAH).

The RCH Demonstration Program was initially authorized by section 410A of the Medicare Modernization Act (MMA) of 2003. Following the initial 5-year authorization, the demonstration has been extended 3 times, each time for an additional 5 years—first, by Sections 3123 and 10313 of the Affordable Care Act; then by section 15003 of the 21st Century Cures Act; and by section 128 of the Consolidated Appropriations Act of 2021. Currently, the demonstration has 20 participants out of a maximum of 30 hospitals, and it is scheduled to end in 2028.

For previous authorizations, CMS has issued a Request for Applications (RFA) to solicit applications for the demonstration program. For the last solicitation, in 2017, CMS received 51 applications for 13 open spaces. CMS is planning on a new RFA to fill the ten spaces that are currently open.

Per the RFA, applications are requested in identical format, regardless of the specific goals and projects of the individual applicants. The standardized application format is not controversial, and it will reduce burden on applicants and reviewers. Responses are strictly voluntary. The standard format will enable CMS to select proposals that meet CMS objectives and show the best potential for success.

The RFA will ask interested hospitals to provide a problem statement, strategies for ongoing financial viability, goals for participation in the demonstration, and plans for collaboration with other providers in the area. Applications will be submitted in the user-friendly format outlined in the Medicare Waiver Demonstration/Model Application.

A panel of evaluators will be assembled and utilize a standardized rubric to score the submitted proposals and identify hospitals with the highest scores. Results will be used to guide the future of the Medicare and Medicaid programs and to inform reform initiatives. Form Number: CMS-10069 (OMB control number: 0938-0880); Frequency: Once; Affected Public: Business or other for-profits and Not-for-profit institutions; Number of Respondents: 30; Total Annual Responses: 30; Total Annual Hours: 2,400. (For policy questions regarding this collection contact Alexis Lilly at 410-786-3501).

William N. Parham, III,
Director, Division of Information Collections and Regulatory Impacts, Office of Strategic Operations and Regulatory Affairs.

[FR Doc. 2025-00399 Filed 1-8-25; 8:45 am]

BILLING CODE 4120-01-P